NATIONAL CREDIT UNION ADMINISTRATION

12 CFR Parts 701, 741, and 745

RINs 3133-AF42 and 3133-AF53

Simplification of Share Insurance and Succession Planning Final Rules; Solicitation of Comments

AGENCY: National Credit Union Administration (NCUA).

ACTION: Notification of a request for comments.

SUMMARY: Consistent with the January 20, 2025, White House memorandum to the Heads of Executive Departments and Agencies, captioned “Regulatory Freeze Pending Review,” the NCUA Board (Board) is soliciting public comment for a period of 60 days on two of its recently published final rules that have not fully taken effect. Specifically, through publication of this notice, the Board invites comment on its final rule captioned “Simplification of Share Insurance,” published on September 30, 2024, which takes full effect on December 1, 2026; and the final rule captioned “Succession Planning,” published on December 26, 2024, which takes full effect on January 1, 2026. The public comment period will allow interested parties to provide comments about issues of fact, law, and policy raised by the two final rules.

DATES: Comments must be received on or before June 23, 2025.

FOR FURTHER INFORMATION CONTACT: Ariel Pereira, Senior Attorney, Office of General Counsel, at (703) 548-2778 or at 1775 Duke Street, Alexandria, VA 22314.

ADDRESSES: You may submit written comments on the final rules, in accordance with the following instructions. Written comments on the final rule captioned “Simplification of Share Insurance” should be identified by RIN 3133-AF53. Written comments on the final rule captioned “Succession Planning” should be identified by RIN 3133-AF42. You may submit written comments by any of the following methods (Please send comments by one method only):

• Federal eRulemaking Portal: https://www.regulations.gov. The docket number for the “Simplification of Share Insurance” rule is NCUA-2023-0082. Follow the instructions for submitting comments. The docket number for the “Succession Planning” rule is NCUA-2024-0037.

• Mail: Address to Melane Conyers-Ausbrooks, Secretary of the Board, National Credit Union Administration, 1775 Duke Street, Alexandria, Virginia 22314-3428.

• Hand Delivery/Courier: Same as mailing address.

• Public inspection: You may view all public comments on the Federal eRulemaking Portal at https://www.regulations.gov, as submitted, except for those we cannot post for technical reasons. The NCUA will not edit or remove any identifying or contact information from the public comments submitted. If you are unable to access public comments on the internet, you may contact the NCUA for alternative access by calling (703) 518-6540 or emailing OGCMail@ncua.gov.

SUPPLEMENTARY INFORMATION: On January 20, 2025, The White House issued a memorandum to the heads of executive departments and agencies, captioned “Regulatory Freeze Pending Review.” The memorandum was published in the Federal Register on January 28, 2025.¹ Among other instructions, the memorandum directs agencies to “consider opening a comment period to allow interested parties to provide comments about issues of fact, law, and policy raised by the rules” that have not yet taken effect and to “consider reevaluating pending petitions involving such rules.” ²

¹ 90 FR 8249 (Jan. 28, 2025).

² Id.

Consistent with the January 20, 2025, White House memorandum, the Board invites public comment for a period of 60 days on its Simplification of Share Insurance ³ and Succession Planning final rules.⁴

³ 89 FR 79397 (Sept. 30, 2024).

⁴ 89 FR 104865 (Dec. 26, 2024).

Authority: 12 U.S.C. 1752(5), 1755, 1756, 1757, 1758, 1759, 1761a, 1765, 1761b, 1766, 1767, 1781, 1782, 1784, 1785, 1786, 1787, 1788, 1789; title V, Pub. L. 109-351;120 Stat. 1966.

By the National Credit Union Administration Board, this 17th day of April 2025.
Melane Conyers-Ausbrooks,
Secretary of the Board.

[FR Doc. 2025-06966 Filed 4-22-25; 8:45 am]

BILLING CODE 7535-01-P